DEPARTMENT OF TRANSPORTATION

Federal Aviation Administration

14 CFR Part 39

[Docket No. FAA-2006-24204; Directorate Identifier 2005-NM-178-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to supersede an existing airworthiness directive (AD) that applies to certain BAE Systems (Operations) Limited Model BAe 146 and Avro 146-RJ airplanes. The existing AD currently requires a one-time inspection to detect corrosion of the flap structure and machined ribs, corrective actions if necessary, and reprotection of the rib boss bores. This proposed AD would require a records review of the results of that inspection, and an additional inspection and related investigative/corrective action if necessary. This proposed AD results from the development of an improved inspection for corrosion in the subject area. We are proposing this AD to detect and correct corrosion in the flap structure and machined ribs, which could result in reduced structural integrity of the airplane.

DATES: We must receive comments on this proposed AD by April 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “Docket No. FAA-2006-24204; Directorate Identifier 2005-NM-178-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On February 5, 2002, we issued AD 2002-03-07, amendment 39-12648 (67 FR 6852, February 14, 2002), for certain BAE Systems (Operations) Limited Model BAe 146 and Avro 146-RJ series airplanes. That AD requires a one-time inspection to detect corrosion of the flap structure and machined ribs, corrective actions if necessary, and reprotection of the rib boss bores. That AD resulted from corrosion at various locations within the flap structure and machined ribs. We issued that AD to detect and correct corrosion in the flap structure and machined ribs, which could result in reduced structural integrity of the airplane.

Relevant Service Information

AD 2002-03-07 cited BAE Systems (Operations) Limited Inspection Service Bulletin ISB.57-066, dated May 15, 2001. Revision 2, dated March 18, 2004, of this service bulletin provides procedures for additional inspection for corrosion and reprotection of the rib boss bores and faces. If the corrosion extended into the boss bores, the service bulletin specifies a “flaps-off” inspection; otherwise the service bulletin specifies a “flaps-on” inspection. Corrective actions for corrosion include repairing (blending), replacing corroded components with new components, and contacting the manufacturer for repair instructions, depending on the extent and location of the corrosion. For airplanes with no corrosion found during the initial inspection, no further work is necessary. Accomplishing the actions specified in the service information is intended to adequately address the unsafe condition. The Civil Aviation Authority (CAA), which is the airworthiness authority of the United Kingdom, mandated the service information and issued British airworthiness directive G-2005-0018, dated July 20, 2005, to ensure the continued airworthiness of these airplanes in the United Kingdom.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that AD action is necessary for airplanes of this type design that are certificated for operation in the United States.

This proposed AD would supersede AD 2002-03-07. This proposed AD would require a review of the airplane records for the results, if any, of the inspection required by AD 2002-03-07. For airplanes not already inspected in accordance with AD 2002-03-07, this proposed AD would require an initial inspection. If the results of the initial inspection required by this proposed AD or AD 2002-03-07 reveal corrosion, this proposed AD would require the related investigative/corrective actions specified in Revision 2 of the service bulletin, described previously, except as discussed below.

Differences Between the Proposed Rule and the British Airworthiness Directive/Service Bulletin

The service bulletin specifies to contact the manufacturer for instructions on how to repair certain conditions, but this proposed AD would require repairing those conditions using a method that we or the CAA (or its delegated agent) approve. In light of the type of repair that would be required to address the unsafe condition, and consistent with existing bilateral airworthiness agreements, we have determined that, for this proposed AD, a repair we or the CAA approve would be acceptable for compliance with this proposed AD.

The British airworthiness directive specifies that all Model BAe 146 and Avro RJ series airplanes are affected. But this proposed AD, as well as Inspection Service Bulletin ISB.57-066, Revision 2, would exclude those airplanes modified by BAE Systems Modification HCM01694F. The CAA is aware of this discrepancy and agreed with the intent to so limit the applicability.

Clarification of Inspection Terminology

The inspection specified in the service bulletin is referred to as a “general visual inspection” in this proposed AD. Note 1 of this proposed AD defines this type of inspection.

Explanation of Change to Applicability

We have revised the applicability of the existing AD to identify model designations as published in the most recent type certificate data sheet for the affected models.

Costs of Compliance

The following table provides the estimated costs for U.S. operators to comply with this proposed AD. This proposed AD would affect about 35 airplanes of U.S. registry.

Estimated Costs
Action | Work hours | Average labor rate per hour | Parts | Cost per airplane
Records review | 1 | $65 | None | $65
Flaps-on inspection, if required | 4 | 65 | None | 260
Flaps-off inspection, if required | 40 | 65 | None | 2,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12648 (67 FR 6852, February 14, 2002) and adding the following new airworthiness directive (AD):

BAE Systems (Operations) Limited (Formerly British Aerospace Regional Aircraft): Docket No. FAA-2006-24204; Directorate Identifier 2005-NM-178-AD.

Comments Due Date

(a) The FAA must receive comments on this AD action by April 26, 2006.

Affected ADs

(b) This AD supersedes AD 2002-03-07.

Applicability

(c) This AD applies to BAE Systems (Operations) Limited Model BAe 146-100A, -200A, and -300A series airplanes, and BAE Systems (Operations) Limited Model Avro 146-RJ70A, 146-RJ85A, and 146-RJ100A airplanes; certificated in any category; except those modified by BAE Systems Modification HCM01694F.

Unsafe Condition

(d) This AD results from the development of an improved inspection for corrosion in the subject area. We are issuing this AD to detect and correct corrosion in the flap structure and machined ribs, which could result in reduced structural integrity of the airplane.

Compliance

(e) You are responsible for having the actions required by this AD performed within the compliance times specified, unless the actions have already been done.

Records Review

(f) For airplanes on which the initial inspection required by AD 2002-03-07 was done before the effective date of this AD: Within 24 months after the effective date of this AD, review the airplane maintenance records to identify the results of the inspection.

Inspection: Airplanes Not Previously Inspected

(g) For airplanes that were not inspected in accordance with AD 2002-03-07 before the effective date of this AD: Before the accumulation of 72 total months since the date of issuance of the original standard airworthiness certificate or the date of issuance of the original export certificate of airworthiness, or within 24 months after the effective date of this AD, whichever occurs later, do a general visual “flaps off” inspection to detect corrosion of the flap structure and machined ribs, in accordance with the Accomplishment Instructions of BAE Systems (Operations) Limited Inspection Service Bulletin ISB.57-066, Revision 2, dated March 18, 2004. If no corrosion is found: Before further flight, reprotect the rib boss bores and faces, in accordance with BAE Systems (Operations) Limited Inspection Service Bulletin ISB.57-066, Revision 2, dated March 18, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Follow-on Actions: No Corrosion Found

(h) If it is positively determined from the records review required by paragraph (f) of this AD that no corrosion was found during the initial inspection, or if no corrosion was found during the initial inspection required by paragraph (g) of this AD: No further work is required by this AD.

Follow-on Actions: Corrosion Found

(i) If it is determined during the records review required by paragraph (f) of this AD that any corrosion was found during the initial inspection, or if it cannot be positively determined from the records review required by paragraph (f) of this AD that no corrosion was found during the initial inspection, or if any corrosion was found during the initial inspection required by paragraph (g) of this AD: Within 36 months after the initial inspection or 24 months after the effective date of this AD, whichever occurs later, but not sooner than 24 months after the initial inspection, perform a general visual inspection of the flap structure and machined ribs to detect corrosion, as specified in paragraph (i)(1) or (i)(2), as applicable, in accordance with the Accomplishment Instructions of BAE Systems (Operations) Limited Inspection Service Bulletin ISB.57-066, Revision 2, dated March 18, 2004.

(1) If the corrosion extended into the boss bores, or if it cannot be positively determined from the records review specified in paragraph (f) of this AD that corrosion did not extend into the boss bores, do a flaps-off inspection.

(2) If the corrosion did not extend into the boss bores, do a flaps-on inspection.

Corrective Actions

(j) If any corrosion is found during any inspection required by this AD: Repair before further flight in accordance with BAE Systems (Operations) Limited Inspection Service Bulletin ISB.57-066, Revision 2, dated March 18, 2004, except as required by paragraph (k) of this AD.

Exceptions to Service Bulletin Specifications

(k) If any corrosion is detected and BAE Systems (Operations) Limited Inspection Service Bulletin ISB.57-066, Revision 2, dated March 18, 2004, specifies to contact the manufacturer for repair instructions: Repair before further flight, using a method approved by either the Manager, International Branch, ANM-116, Transport Airplane Directorate, FAA; or the Civil Aviation Authority (or its delegated agent).

(l) Although the service bulletin referenced in this AD specifies to submit certain information to the manufacturer, this AD does not include that requirement.

Credit

(m) Actions done before the effective date of this AD in accordance with BAE Systems (Operations) Limited Inspection Service Bulletin ISB.57-066, dated May 15, 2001, or Revision 1, dated September 20, 2002, are acceptable for compliance with the corresponding requirements of paragraph (g), (h), (i), and (j) of this AD.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) British airworthiness directive G-2005-0018, dated July 20, 2005, also addresses the subject of this AD.

Issued in Renton, Washington, on March 10, 2006.
Kalene C. Yanamura,
Acting Manager, Transport Airplane Directorate, Aircraft Certification Service.

[FR Doc. E6-4411 Filed 3-24-06; 8:45 am]

BILLING CODE 4910-13-P